DEPARTMENT OF THE INTERIOR

Bureau of Land Management

[NM-070-1430-ES; NMNM-108598]

Notice of Realty Action: Commercial Permit/Lease/or Possible Sale on Public Land

AGENCY: Bureau of Land Management, Interior.

ACTION: Proposed Commercial Permit/Lease/Sale, Section 302 , Federal Land Policy and Management Act.

SUMMARY: The Bureau of Land Management, Farmington Field Office, Farmington, New Mexico, has for consideration interest in land use authorization(s) under section 302 of the Federal Land Policy and Management Act of 1976 (90 Stat. 2762; 43 U.S.C. 1732), and regulations at 43 CFR part 2920. San Juan County, proposes to use approximately 1.26 acres of public land for a recreation/RV park facility.

Description: An area of federal lands managed by the Bureau of Land Management, Department of the Interior, lying approximately within sections 28 of Township 29 N., R.12 W., New Mexico Principal Meridian. Further described as Section 28: E½NE¼ NE¼ SW¼ SE¼; Containing 1.26 acres more or less.

A application which will be accepted after the publication of the NORA. A determination to analyze the proposed project or any other applications received from this notice will be made subsequent to a review of applications which will be submitted after the publication of this NORA.

If found suitable for the proposed use, such use would be authorized through a competitive or non-competitive process, by permit, lease, or possible sale, as appropriate, at fair market rental, paid annually in advance. A permit, lease or sale, could authorize use of the land for recreation/ RV park. A holder of a permit, or lease would be required, in advance of authorization, to agree to the terms and conditions of 43 CFR 2920.7 and such additional terms and conditions as are deemed necessary for the particular use authorization. Permitting/leasing/ or sale under Section 302 of FLPMA within the above-described area would be consistent with the Bureau of Land Management's current Farmington Field Office's Resource Area Management Plan.

An authorized Permittee, lessee, would be required, in advance, to reimburse the United States for reasonable administrative fees and monitoring of construction, operation, maintenance, and rehabilitation of the land authorized.

Any permit, lease, or sale authorized would be subject to valid existing rights.

Detailed information is available for review at the office of the Bureau of Land Management, Farmington Field Office, 1235 La Plata Highway, Farmington, New Mexico.

DATES: Interested parties may submit comments for a period of 45 days from publication of this notice in the Federal Register to: Bureau of Land Management, Field Office Manager, Farmington Field Office, 1235 La Plata Highway, Farmington, New Mexico 87401.

FOR FURTHER INFORMATION CONTACT: Albert Gonzales, Farmington Field Office, Bureau of Land Management, 123 5 La Plata Highway, Farmington, New Mexico 87401; (505) 599-6334.

Joel Farrell,
Assistant Field Office Manager.

[FR Doc. 02-24469 Filed 9-25-02; 8:45 am]

BILLING CODE 4310-VB-P